FEDERAL MARITIME COMMISSION

Notice of Agreement Filed

The Commission hereby gives notice of the filing of the following agreement under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 010977-055.

Title: Hispaniola Discussion Agreement.

Parties: Crowley Liner Services; Seaboard Marine; Tropical Shipping and Construction Co. Ltd.; and Frontier Liner Services.

Filing Party: Wayne R. Rohde, Esq.; Sher & Blackwell; 1850 M Street, NW.; Suite 900; Washington, DC 20036.

Synopsis: The amendment adds Nina (Bermuda) Ltd. d/b/a FTD Shipping Line as a party to the agreement.

Agreement No.: 011584-005.

Title: NYK/WW Lines/NSCSA Cooperative Working Agreement.

Parties: Nippon Yusen Kaisha; Wallenius Wilhelmsen Lines AS, and National Shipping Company of Saudi Arabia.

Filing Party: Wayne R. Rohde, Esq.; Sher & Blackwell; 1850 M Street, NW.; Suite 900; Washington, DC 20036.

Synopsis: The amendment deletes HUAL A/S as a party to the agreement.

Agreement No.: 011602-005.

Title: Grand Alliance Agreement II.

Parties: Hapag-Lloyd Container Linie GmbH; Nippon Yusen Kaisha; Orient Overseas Container Line, Inc.; Orient Overseas Container Line Limited; Orient Overseas Container Line (Europe) Limited; P&O Nedlloyd Limited; and P&O Nedlloyd, B.V.

Filing Party: Wayne R. Rohde, Esq.; Sher & Blackwell; 1850 M Street, NW.; Suite 900; Washington, DC 20036; and Neal M. Mayer; Hoppel, Mayer & Coleman; 1000 Connecticut Ave., NW., Suite 400; Washington, DC 20036.

Synopsis: The subject modification would suspend the parties' rate and service contract authority under the agreement until further notice.

Agreement No.: 011618-002.

Title: APL/MOL/HMM Trans-Pacific Slot Exchange Agreement.

Parties: American President Lines, Ltd.; APL Co. PTE, Ltd.; Mitsui O.S.K. Lines, Ltd.; and Hyundai Merchant Marine Co., Ltd.

Filing Party: David B. Cook, Esq.; Goodwin Procter LLP; 901 New York Ave., NW.; Washington, DC 20001.

Synopsis: The modification would delete the parties' authority to discuss and agree on rates and the terms and conditions for service contracts.

Agreement No.: 011623-003.

Title: APL/MOL/HMM Asia-US Atlantic Coast Space Sharing Agreement.

Parties: American President Lines, Ltd.; APL Co. PTE, Ltd.; Mitsui O.S.K. Lines, Ltd.; and Hyundai Merchant Marine Co., Ltd.

Filing Party: David B. Cook, Esq.; Goodwin Procter LLP; 901 New York Ave., NW.; Washington, DC 20001.

Synopsis: The modification would delete the parties' authority to discuss and agree on rates and the terms and conditions for service contracts.

Agreement No.: 011894.

Title: Lykes/TMM/Montemar Slot Swap Agreement.

Parties: Lykes Lines Limited, LLC; TMM Lines Limited, LLC; and Montemar Maritima, S.A.

Filing Party: Wayne R. Rohde, Esq.; Sher & Blackwell; 1850 M Street, NW., Suite 900; Washington, DC 20036.

Synopsis: The agreement authorizes Lykes/TMM to exchange space on their U.S. Gulf-East Coast of South America service for space on Montemar's U.S. East Coast-East Coast of South America service.

Dated: January 6, 2005.
By Order of the Federal Maritime Commission.
Bryant L. VanBrakle,
Secretary.

[FR Doc. 05-574 Filed 1-11-05; 8:45 am]

BILLING CODE 6730-01-P